DEPARTMENT OF COMMERCE

International Trade Administration

[A-570-848]

Freshwater Crawfish Tail Meat From the People's Republic of China: Final Rescission of Antidumping Duty New Shipper Reviews

AGENCY: Import Administration, International Trade Administration, U.S. Department of Commerce.

SUMMARY: On October 31, 2000, the Department of Commerce (the Department) initiated antidumping duty new shipper reviews of freshwater crawfish tail meat from the People's Republic of China (PRC) for the period of review (POR) of September 1, 1999 to August 31, 2000 for three manufacturers/exporters of subject merchandise: Coastal (Jiangsu) Foods Co., Ltd. (Coastal), Shouzhou Huaxiang Foodstuffs Co., Ltd. (Shouzhou), and Shanghai Taoen International Trading Co., Ltd. (Shanghai). See Freshwater Crawfish Tail Meat from the People's Republic of China: Initiation of New Shipper Antidumping Administrative Reviews, 65 FR 66525 (November 6, 2000)(Crawfish from China). Pursuant to § 351.214(f)(2)(ii) of our regulations, we find that an expansion of the normal POR to include an entry and sale to an unaffiliated customer in the United States of subject merchandise would be likely to prevent the completion of the reviews of Coastal and Shouzhou within the time limits set by the Department's regulations, and, therefore, we are rescinding the reviews of these two manufacturers/exporters.

EFFECTIVE DATE: August 9, 2001.

FOR FURTHER INFORMATION CONTACT: Mark Hoadley or Julio Fernandez, Enforcement Group III, Office 7, Import Administration, International Trade Administration, U.S. Department of Commerce, 1401 Constitution Avenue, NW., Washington, DC 20230; telephone: 202-482-0666 and 202-482-0190, respectively.

SUPPLEMENTARY INFORMATION:

Applicable Statute and Regulations

Unless otherwise indicated, all citations to the Tariff Act of 1930, as amended (the Act), are references to the provisions effective January 1, 1995, the effective date of the Uruguay Round Agreements Act. In addition, unless otherwise indicated, all citations to the Department's regulations are to the regulations codified at 19 CFR part 351 (2000).

Background

On October 31, 2000, the Department initiated antidumping duty new shipper reviews of freshwater crawfish tail meat from the PRC, for the period September 1, 1999 through August 31, 2000, with respect to three manufacturers/exporters of the subject merchandise: Coastal, Shouzhou, and Shanghai. See Crawfish from China.

On June 5, 2001, the Department issued supplemental questionnaires to Coastal, Shouzhou, and Shanghai requesting entry documentation illustrating that the sale of subject merchandise occurred, and that the date of entry took place, within the POR. In the same letter, the Department notified the companies that failure to demonstrate that the date of entry was no more than one month after the end of the POR would result in the rescission of the new shipper review. Shouzhou, Coastal and Shanghai submitted their responses to the Department's supplemental questionnaire on June 12, 2001, and included entry documentation for the shipments of subject merchandise. Due to the business proprietary nature of information regarding the entry and sale dates of the subject merchandise in question, we have analyzed this issue in a business proprietary Memorandum to Barbara E. Tillman From Julio A. Fernandez through Maureen Flannery Regarding Freshwater Crawfish Tail Meat from the People's Republic of China (July 23, 2001) (Crawfish Memo) (public version on file in the Central Records Unit, Room B-099 of the main Department of Commerce Building).

Final Rescission of Review

Under § 351.214(f)(2)(ii) of the Department's regulations, when the sale of the subject merchandise occurs within the POR, but the entry occurs after the normal POR, the POR may be extended unless it would be likely to prevent the completion of the review within the time limits set by the Department's regulations. While the regulations do not provide a definitive date by which the entry must occur, the preamble to the Department's regulations state that both the entry and the sale should occur during the POR, and that only under “appropriate” circumstances should the POR be extended when the entry is made after the POR. See Antidumping Duties; Countervailing Duties; Final Rule, 62 FR 27296, 27319 (May 19, 1997). While the Department did not adopt a precise cut-off point for entries in the regulations, the entries in this case were made long after the end of the POR. See Crawfish Memo.

Accordingly, we are rescinding the new shipper reviews with respect to Coastal and Shouzhou for the period September 1, 1999 through August 31, 2000. For Shanghai, we are extending the POR by one month. See Crawfish Memo for further details. We note that Coastal and Shouzhou will have an opportunity to request a new shipper review in September, 2001. In any such review the Department will cover the particular sales at issue in this case.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Act.

Dated: August 2, 2001.
Joseph A. Spetrini,
Deputy Assistant Secretary, AD/CVD Enforcement Group III.

[FR Doc. 01-20019 Filed 8-8-01; 8:45 am]

BILLING CODE 3510-DS-P